DEPARTMENT OF ENERGY

Federal Energy Regulatory Commission

Combined Notice of Filings #2

Take notice that the Commission received the following electric rate filings:

Docket Numbers: ER17-1461-001.

Applicants: Duke Energy Carolinas, LLC.

Description: Tariff Amendment: DEC-Greenwood Response to Deficiency Letter to be effective 7/1/2017.

Filed Date: 5/24/17.

Accession Number: 20170524-5136.

Comments Due: 5 p.m. ET 6/14/17.

Docket Numbers: ER17-1462-001.

Applicants: Duke Energy Carolinas, LLC.

Description: Tariff Amendment: DEC-Concord Response to Deficiency Letter to be effective 7/1/2017.

Filed Date: 5/24/17.

Accession Number: 20170524-5121.

Comments Due: 5 p.m. ET 6/14/17.

Docket Numbers: ER17-1474-001.

Applicants: Duke Energy Carolinas, LLC.

Description: Tariff Amendment: DEC-Kings Mountain Response to Deficiency Letter to be effective 7/1/2017.

Filed Date: 5/24/17.

Accession Number: 20170524-5140.

Comments Due: 5 p.m. ET 6/14/17.

Docket Numbers: ER17-1486-001.

Applicants: Duke Energy Carolinas, LLC.

Description: Tariff Amendment: DEC-Forest City Response to Deficiency Letter to be effective 7/1/2017.

Filed Date: 5/24/17.

Accession Number: 20170524-5132.

Comments Due: 5 p.m. ET 6/14/17.

Docket Numbers: ER17-1492-001.

Applicants: Duke Energy Carolinas, LLC.

Description: Tariff Amendment: DEC-Dallas Response to Deficiency Letter to be effective 7/1/2017.

Filed Date: 5/24/17.

Accession Number: 20170524-5124.

Comments Due: 5 p.m. ET 6/14/17.

Docket Numbers: ER17-1520-001.

Applicants: Duke Energy Carolinas, LLC.

Description: Tariff Amendment: DEC-Lockhart Response to Deficiency Letter to be effective 1/1/2016.

Filed Date: 5/24/17.

Accession Number: 20170524-5142.

Comments Due: 5 p.m. ET 6/14/17.

Docket Numbers: ER17-1576-001.

Applicants: Duke Energy Carolinas, LLC.

Description: Tariff Amendment: DEC-Western Carolina Response to Deficiency Letter to be effective 7/1/2017.

Filed Date: 5/24/17.

Accession Number: 20170524-5149.

Comments Due: 5 p.m. ET 6/14/17.

Docket Numbers: ER17-1582-001.

Applicants: Duke Energy Carolinas, LLC.

Description: Tariff Amendment: DEC-Highlands Response to Deficiency Letter to be effective 7/1/2017.

Filed Date: 5/24/17.

Accession Number: 20170524-5138.

Comments Due: 5 p.m. ET 6/14/17.

Docket Numbers: ER17-1611-001.

Applicants: Duke Energy Carolinas, LLC.

Description: Tariff Amendment: DEC-Prosperity Response to Deficiency Letter to be effective 7/1/2017.

Filed Date: 5/24/17.

Accession Number: 20170524-5147.

Comments Due: 5 p.m. ET 6/14/17.

Docket Numbers: ER17-1614-001.

Applicants: Duke Energy Carolinas, LLC.

Description: Tariff Amendment: DEC-Due West Response to Deficiency Letter to be effective 1/1/2016.

Filed Date: 5/24/17.

Accession Number: 20170524-5128.

Comments Due: 5 p.m. ET 6/14/17.

Docket Numbers: ER17-1671-000.

Applicants: Gulf Coast Solar Center II, LLC.

Description: Baseline eTariff Filing: Application for Market Based Rate to be effective 5/31/2017.

Filed Date: 5/24/17.

Accession Number: 20170524-5092.

Comments Due: 5 p.m. ET 6/14/17.

Docket Numbers: ER17-1672-000.

Applicants: Gulf Coast Solar Center III, LLC.

Description: Baseline eTariff Filing: Application for Market Based Rate to be effective 5/31/2017.

Filed Date: 5/24/17.

Accession Number: 20170524-5098.

Comments Due: 5 p.m. ET 6/14/17.

Docket Numbers: ER17-1674-000.

Applicants: ITC Midwest LLC.

Description: § 205(d) Rate Filing: Filing of an Amended and Restated Interconnection Agreement to be effective 7/24/2017.

Filed Date: 5/24/17.

Accession Number: 20170524-5165.

Comments Due: 5 p.m. ET 6/14/17.

Docket Numbers: ER17-1675-000.

Applicants: Midcontinent Independent System Operator, Inc.

Description: § 205(d) Rate Filing: 2017-05-24_SA 2856 MidAmerican-MidAmerican 2nd Revised GIA (J411) to be effective 5/25/2017.

Filed Date: 5/24/17.

Accession Number: 20170524-5166.

Comments Due: 5 p.m. ET 6/14/17.

Docket Numbers: ER17-1676-000.

Applicants: ITC Midwest LLC.

Description: § 205(d) Rate Filing: Filing of a Master Joint Use Agreement for Distribution Underbuild to be effective 7/24/2017.

Filed Date: 5/24/17.

Accession Number: 20170524-5169.

Comments Due: 5 p.m. ET 6/14/17.

Docket Numbers: ER17-1677-000.

Applicants: ITC Midwest LLC.

Description: § 205(d) Rate Filing: Cancellation of Joint Use Agreements with Consumers Energy Cooperative to be effective 7/24/2017.

Filed Date: 5/24/17.

Accession Number: 20170524-5170.

Comments Due: 5 p.m. ET 6/14/17.

Take notice that the Commission received the following electric securities filings:

Docket Numbers: ES17-18-000.

Applicants: Consumers Energy Company.

Description: Amendment to April 27, 2017 Application for Authorization to Issue Securities of Consumers Energy Company.

Filed Date: 5/24/17.

Accession Number: 20170524-5159.

Comments Due: 5 p.m. ET 6/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2017.
Kimberly D. Bose,
Secretary.

[FR Doc. 2017-11196 Filed 5-30-17; 8:45 am]

BILLING CODE 6717-01-P